DEPARTMENT OF COMMERCE

National Oceanic and Atmospheric Administration

50 CFR Part 648

[Docket No. 000907254-0254-01; I.D. 082400A]

Fisheries of the Northeastern United States; Atlantic Mackerel, Squid and Butterfish Fisheries; Inseason Adjustment Procedures

AGENCY: National Marine Fisheries Service (NMFS), National Oceanic and Atmospheric Administration (NOAA), Commerce.

ACTION: Final rule; technical amendment.

SUMMARY: NMFS corrects the regulations implementing the Atlantic Mackerel, Squid, and Butterfish Fishery Management Plan (FMP) by reinserting regulatory text that was incorrectly removed in the final rule that implemented measures contained in Amendment 12 to the Summer Flounder, Scup and Black Sea Bass FMP, Amendment 8 to the Atlantic Mackerel, Squid and Butterfish FMP, and Amendment 12 to the Atlantic Surf Clam and Ocean Quahog FMP, which was published on October 26, 1999.

DATES: Effective September 15, 2000.

FOR FURTHER INFORMATION CONTACT: Paul H. Jones, Fishery Policy Analyst, (978) 281-9273.

SUPPLEMENTARY INFORMATION:

Background

On October 26, 1999, NMFS published a final rule at 64 FR 57587 to implement management measures contained in Amendment 12 to the Summer Flounder, Scup and Black Sea Bass FMP, Amendment 8 to the Atlantic Mackerel, Squid and Butterfish FMP, and Amendment 12 to the Atlantic Surf Clam and Ocean Quahog FMP. However, the final rule incorrectly removed § 648.21 (e), because the measures were thought to be redundant with the inseason adjustment process established under the framework provision in § 648.24, which allows the Mid-Atlantic Fishery Management Council (Council) to modify or add management measures through a streamlined public review process. The text previously codified at § 648.21 (e), allowed the Administrator, Northeast Region, NMFS, in consultation with the Council, to recommend inseason adjustments to the annual specifications during the fishing year by publishing notification in the Federal Register and providing a 30-day public comment period. This process is not redundant with the framework provision process that was established under § 648.24. Therefore, this technical amendment reinserts § 648.21 (e), that was incorrectly removed on October 26, 1999.

Classification

This technical amendment is issued under 50 CFR part 648. Because it only corrects an inadvertent deletion, the Assistant Administrator for Fisheries, NOAA, finds, under 5 U.S.C. 553(b)(B), that it is unnecessary to provide prior notice and opportunity for public comment as such procedures would serve no useful purpose. This rule simply restores text that was inadvertently removed by a prior rule. Because this rule is not substantive, it is not subject to a 30-day delay in effective date. The provision is procedural in nature because it merely restores the process through which NMFS may make inseason adjustments to the annual specifications, and it does not impose any requirements with which the public must comply.

This rule is exempt from review under Executive Order 12866.

List of Subjects in 50 CFR Part 648

Fisheries, Fishing, Reporting and recordkeeping requirements.

Dated: September 11, 2000.
Bruce C. Morehead,
Acting Director, Office of Sustainable Fisheries, National Marine Fisheries Service.

For the reasons set out in the preamble, 50 CFR part 648 is amended as follows:

PART 648—FISHERIES OF THE NORTHEASTERN UNITED STATES

1. The authority citation for part 648 continues to read as follows:

Authority: 16 U.S.C. 1801 et seq.

2. In § 648.21, redesignate paragraph (e) as paragraph (f) and add new paragraph (e) to read as follows:

§ 648.21 Procedures for determining initial annual amounts.

* * * * *

(e) Inseason adjustments. The specifications established pursuant to this section may be adjusted by the Regional Administrator, in consultation with the MAFMC, during the fishing year by publishing notification in the Federal Register stating the reasons for such an action and providing a 30-day public comment period.

* * * * *

[FR Doc. 00-23807 Filed 9-14-00; 8:45 am]

BILLING CODE 3510-22-S